DEPARTMENT OF TRANSPORTATION

Federal Railroad Administration

[FRA Docket No. FRA-1999-6689, Notice No. 2]

Reflectorization of Rail Rolling Stock

AGENCY: Federal Railroad Administration (FRA), DOT.

ACTION: Notice of availability.

SUMMARY: FRA announces that a preliminary analysis evaluating the costs and benefits of placing retro-reflective material on certain rail rolling stock in order to reduce collisions at highway-rail crossings has been placed in the public docket established to receive information on this topic. Public comment is invited.

ADDRESSES: The public is invited to submit both relevant information and relevant comments to the docket. Written comments should refer to the docket number of this notice and be submitted in duplicate to: DOT Central Docket Management Facility located in room PL-401 at the Plaza level of the Nassif Building, 400 Seventh Street, SW., Washington, DC 20590. All docket material will be available for inspection at the Central Docket Management Facility during regular business hours and on the Internet at http://dms.dot.gov. Those desiring notification of receipt of comments must include a self-addressed, stamped envelope or postcard.

SUPPLEMENTARY INFORMATION: In 1982, FRA conducted a study to determine whether reflective materials would enhance railcar conspicuity and thereby reduce the number of accidents involving railcars. That study demonstrated that, although the use of reflective material enhanced railcar conspicuity, the reflective material was not durable enough to withstand the harsh railroad environment.

Beginning in 1990, FRA initiated additional research in response to improvements in the retroreflective qualities and durability of reflective materials. Subsequently, under the Federal Railroad Safety Authorization Act of 1994 (“the Act”), Pub. L. No. 103-440, 108 Stat. 4622-23 (November 2, 1994), Congress required FRA to revisit the issue of railcar conspicuity. The statute, codified at 49 U.S.C. 20148, provides that if the review establishes that enhanced railroad car visibility would likely improve safety in a cost-effective manner, the Secretary of Transportation shall initiate a rulemaking to prescribe regulations requiring enhanced visibility standards for railroad cars. FRA has completed its review of costs and benefits and is now placing it in the docket.

After extensive analysis, FRA has concluded that, because of technological advances developed since 1982, the reflectorization of railroad freight equipment appears to be a viable and cost-effective method of reducing the number of collisions at highway-rail grade crossings and the casualties and property damages which result from those collisions. FRA's analysis supports the conclusion that declines in the cost of reflective material, in combination with better performance and lower maintenance costs, have created a situation in which the benefits of reflectorization now appear to exceed its costs.

FRA invites all interested parties to review the cost-benefit analysis and to comment on the information contained therein and conclusions drawn from that information. FRA will review information that is submitted prior to the date on which FRA determines whether to institute rulemaking. Any responses can be sent to the docket. Instructions for doing so are described above under Addresses.

FOR FURTHER INFORMATION CONTACT: Mary Plache, Industry Economist, Office of Safety, FRA, 1120 Vermont Ave., NW., Mailstop 17, Washington, DC 20590 (telephone 202-493-6297) or John A. Winkle, Esq., Office of Chief Counsel, FRA, 1120 Vermont Ave., NW., Mailstop 10, Washington, DC 20590 (telephone 202-493-6067).

Issued in Washington, DC on October 22, 2001.
Grady C. Cothen, Jr.,
Deputy Associate Administrator for Safety Standards and Program Development.

[FR Doc. 01-26991 Filed 10-25-01; 8:45 am]

BILLING CODE 4910-06-P